DEPARTMENT OF STATE

[Public Notice 9127]

Plenary Meeting of the Binational Bridges and Border Crossings Group in Washington, DC

AGENCY: Department of State.

ACTION: Notice.

SUMMARY: Delegates from the United States and Mexican Governments, the states of Arizona, California, New Mexico, and Texas, the Mexican states of Baja California, Chihuahua, Coahuila, Nuevo Leon, Sonora, and Tamaulipas, will participate in the Plenary Meeting of the U.S.-Mexico Binational Bridges and Border Crossings Group on May 21, 2015, in Washington, DC. The purpose of this meeting is to discuss operational matters involving existing and proposed international bridges and border crossings and their related infrastructure, and to exchange views on policy as well as technical information. This meeting includes a public session on Thursday, May 21, 2015, from 8:30 a.m. until 12:00 p.m. This session allows proponents of proposed bridges and border crossings and related projects to make presentations to the delegations and members of the public.

FOR FURTHER INFORMATION CONTACT: For further information on the meeting and to attend the public session, please contact the Mexico Desk's Border Affairs Unit, via email at WHABorderAffairs@state.gov, by phone at 202-647-9895, or by mail at Office of Mexican Affairs—Room 3924, Department of State, 2201 C St. NW., Washington, DC 20520.

Dated: May 4, 2015.
Rachel M. Poynter,
Acting Director, Office of Mexican Affairs, Department of State.

[FR Doc. 2015-11440 Filed 5-11-15; 8:45 am]

BILLING CODE 4710-29-P